DEPARTMENT OF THE INTERIOR

National Park Service

Interagency Regional Trail Management Plan; Santa Monica Mountains National Recreation Area Los Angeles and Ventura Counties, CA; Notice of Intent To Prepare an Environmental Impact Statement

Summary: In accord with § 102(2)(c) of the National Environmental Policy Act of 1969 (Pub. L. 91-190), the National Park Service is initiating the conservation planning and environmental impact analysis process for an interagency regional trail management plan (TMP) for the Santa Monica Mountains National Recreation Area. The TMP will serve as a “blueprint” establishing the overall direction of future development and management of the trail network over the next ten to fifteen years. Based on desired conditions to be identified for park natural, cultural and recreational resources, the TMP will prescribe policies to streamline interagency management of the trail network throughout the national recreation area, and will also include a trail policy map depicting the planned trail network. The TMP could potentially result in a program modifying current trail policies, recreational use patterns, and future trail openings and closures.

The National Park Service has invited the California Department of Parks and Recreation and the Santa Monica Mountains Conservancy (SMMC) to be cooperators in the preparation of the TMP. Following publication of this notice to prepare an Environmental Impact Statement (EIS), the state of California will issue a notice of preparation initiating a complementary Environmental Impact Report (EIR). The official responsible for the EIR will be Ruth Coleman, Acting Director, California Department of Parks and Recreation (CDPR).

Background: The Santa Monica Mountains National Recreation Area (NRA) encompasses 150,050 acres, with approximately 71,300 acres of public parkland and the rest in private or other government ownership. Within the NRA there is a 320-mile public trail network made up of trails and dirt service roads. The greater Santa Monica Mountains trail network adjacent to the NRA features over 80 additional miles of public trails, several of which are linked to the NRA network. Public lands and trails in the NRA are managed by federal, state and local agencies with varying management policies. Additionally, much of the trail network consists of utility and old ranch roads that were inherited with the land and are not necessarily constructed to public trail management standards. After almost 25 years of continuous land acquisition, the public trail network has grown significantly, and several trails now cross-parkland jurisdictional boundaries. There is the need to formulate an interagency regional trail plan to compile trail management policies to facilitate a seamless recreational experience for trail users and to prepare a vision for the final trail network and future development of trail-related facilities, ranging from trail network signs to backcountry trail camps.

Alternatives: In cooperating to prepare a regional trails plan, the NPS, CDPR and SMMC will jointly identify and analyze several alternative trail network designs, consistent with agency policies. At this time, it is anticipated that alternatives to be compared and analyzed will include “No Action” (maintaining existing conditions and management), a “Preferred” alternative, and several other options for contrasting recreational use patterns. The TMP EIS/EIR will evaluate the potential environmental impacts of the alternatives, and identify suitable mitigation strategies. An “environmentally preferred” alternative will be identified, and any potential impairments to national park values will also be disclosed. The alternatives will be based on input from the community, an environmental constraints analysis using current environmental condition information, trail network maintenance costs, and several visitor recreational use surveys conducted in the national recreation area.

Issues: The draft TMP EIS/EIR will address environmental and social impacts associated with the national recreation area's trail network. Environmental issues will include, but not be limited to, trail and/or trailhead adjacency to sensitive plant and animal species' habitats; adjacency to cultural and archaeological resource sites; trail erosion and impacts on water resources; soils and geology impacts from trail presence and new trail construction; back country camp impacts including fire hazard potential. Social impacts will include, but not be limited to, allowable uses and user conflicts on trails; trail network public access; trail network compliance with Americans with Disabilities Act requirements; proposed trail and trailhead construction; trail network management and operation guidelines; and trail network signs.

Public Involvement: The NPS will conduct a conservation planning and environmental impact analysis for the proposed interagency regional TMP. Written comments that identify concerns and issues, provide essential environmental information, and suggest reasonable design alternatives are desired in initiating the TMP EIS/EIR process. All respondents will later have an opportunity to review the draft TMP EIS/EIR and submit additional comments.

Public scoping for a interagency trail plan began with the Santa Monica Mountains Area Recreational Trails (SMMART) project that culminated in the 1997 SMMART Report. The SMMART Report is available for review at http://www.nps.gov/samo/trails. The SMMART Report contains the public's recommendations regarding missing links in the trail network, back country camps along the regional Backbone Trail, trail network sign guidelines, multiple use trail guidelines, and trail system design. The report also identified priority coordination issues, including interagency cooperation, volunteer commitment, and multi-agency trail crew and equipment sharing. In addition, all information on trail-related issues previously received during public comment regarding the Santa Monica Mountains National Recreation Area General Management Plan/EIS will also be considered in preparing the draft TMP EIS/EIR.

Any new issues or concerns, or information relevant to TMP process, are requested at this time. All such written comments must be postmarked or transmitted not later than 45 days following the publication of this Notice in the Federal Register. As soon as this date has been determined, it will be posted on the project Web site and included in direct mailings. Comments should be addressed to the Superintendent, Santa Monica Mountains National Recreation Area, Attn: Interagency Regional Trail Management Plan, 401 W. Hillcrest Drive, Thousand Oaks, CA 91360. Comments may be faxed to (805) 370-1850, or e-mailed to SMMNRATrails@nps.gov.

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Future Information: Updated information about this conservation planning and environmental impact analysis process will be distributed via mailings, regional and local news media, and the park's webpage (http://www.nps.gov/samo/trails). Responses to this Notice will be used to update the mailing list of people interested in receiving future information as the environmental documents are developed. Please notify the National Park Service by mail, e-mail, or fax at the appropriate number to request placement on the mailing list. For all types of requests please be sure to include your mailing address.

Decision Process: Availability of the draft TMP EIS/EIR for review and written comment will be officially announced by Notice of Availability in the Federal Register, as well as through local and regional news media, the above listed Web site, and direct mailing. At this time the draft TMP EIS/EIR is anticipated to be distributed in fall, 2003. After due consideration of all comments on the draft TMP EIS/EIR, a final TMP EIS/EIR would be prepared which at this time is anticipated could be completed by July, 2004. As a delegated EIS, the official responsible for the final decision is the Regional Director, Pacific West Region; subsequently the official responsible for implementation would be the Superintendent, Santa Monica Mountains National Recreation Area.

Dated: December 2, 2002.
Holly Bundock,
Acting Regional Director, Pacific West Region.

[FR Doc. 03-1003 Filed 1-15-03; 8:45 am]

BILLING CODE 4310-70-P